SOCIAL SECURITY ADMINISTRATION

Privacy Act of 1974; as Amended; New System of Records and New Routine Use Disclosures

AGENCY: Social Security Administration (SSA).

ACTION: Proposed new system of records and proposed routine uses.

SUMMARY: In accordance with the Privacy Act (5 U.S.C. 552a(e)(4) and (e)(11)), we are issuing public notice of our intent to establish a new system of records entitled, the National Docketing Management Information System (NDMIS) and routine uses applicable to this system of records. Hereinafter, we will refer to the proposed system of records as the NDMIS. We invite public comments on this proposal.

DATES: We filed a report of the proposed new system of records and proposed routine use disclosures with the Chairman of the Senate Committee on Homeland Security and Governmental Affairs, the Chairman of the House Committee on Government Reform, and the Director, Office of Information and Regulatory Affairs, Office of Management and Budget (OMB) on June 2, 2005. The proposed system of records and routine uses will become effective on July 12, 2005, unless we receive comments warranting it not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Joyce Schaul, Social Insurance Specialist, Office of Public Disclosure, Office of the General Counsel, Social Security Administration, Room 3-A-6 Operations Building, 6401 Security Boulevard, Baltimore, Maryland 21235, e-mail address at joyce.schaul@ssa.gov, or by telephone at (410) 965-5662.

SUPPLEMENTARY INFORMATION:

I. Background and Purpose of the Proposed New System of Records Entitled the NDMIS

A. General Background

The Office of the General Counsel (OGC) in SSA is responsible for the Agency's litigation workloads. In order to handle these workloads, OGC has to efficiently and effectively control, track, and maintain information about these workloads as they develop. For example, SSA receives communications from individuals and/or their representatives about legal matters that may result or have resulted in litigation. Information about such matters is maintained in the NDMIS to aid OGC's offices in SSA headquarters in Baltimore, and its 10 regional offices, to process these workloads. The system maintains and tracks records during all phases of processing each matter through its resolution.

B. Collection and Maintenance of the Data for the Proposed New System of Records Entitled the NDMIS

SSA must collect and maintain identifying information about individuals and/or their representatives; about individuals who are in communication with SSA regarding legal matters; about individuals against whom SSA may pursue or has pursued legal action; and about Government representatives who work on these matters. We will retrieve information from the proposed system of records by using certain identifiers, including the individual's name, Social Security number (SSN) and/or Employer Identification number. Thus, the NDMIS system will constitute a system of records under the Privacy Act of 1974, as amended.

II. Proposed Routine Use Disclosures of Data Maintained in the Proposed NDMIS

A. Proposed Routine Use Disclosures

We are proposing to establish routine uses of information that will be maintained in the proposed NDMIS as discussed below.

1. To the Office of the President for the purpose of responding to an individual pursuant to an inquiry received from that individual or from a third party on his or her behalf.

We will disclose information under this routine use only in situations in which an individual may contact the Office of the President, seeking that Office's assistance in a matter relating to information contained in this system of records. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. Information will be disclosed when the congressional representative makes an inquiry and indicates that he or she is acting on behalf of the individual whose record is requested.

3. To the Department of Justice (DOJ), a court or other tribunal, or another party before such tribunal when:

(a) SSA, or any component thereof; or

(b) any SSA employee in his/her official capacity; or

(c) any SSA employee in his/her individual capacity where DOJ (or SSA where it is authorized to do so) has agreed to represent the employee; or

(d) the United States or any agency thereof where SSA determines that the litigation is likely to affect the operation of SSA or any of its components,

is party to litigation or has an interest in such litigation, and SSA determines that the use of such records by DOJ, a court or other tribunal, or another party before such tribunal, is relevant and necessary to the litigation, provided, however, that in each case, SSA determines that such disclosure is compatible with the purpose for which the records were collected.

Disclosure of any information defined as “return or return information” under 26 U.S.C. 6103 of the Internal Revenue Code (IRC) will not be made unless authorized by a statute, the Internal Revenue Service (IRS), or IRS regulations.

We will disclose information under this routine use only as necessary to enable DOJ to effectively defend SSA, its components or employees in litigation involving the proposed new system of records and ensure that courts and other tribunals have appropriate information.

4. To student volunteers, individuals working under a personal service contract, and other individuals performing functions for SSA, but technically not having the status of Agency employees, if they need access to the records in order to perform their assigned Agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals and they need access to information in this system to perform their assigned agency duties.

5. To contractors and other Federal agencies, as necessary, for the purpose of assisting SSA in the efficient administration of its programs. We contemplate disclosing information under this routine use only in situations in which SSA may enter into a contractual or similar agreement with a third party to assist in accomplishing an Agency function relating to this system of records.

We will disclose information under this routine use only in situations in which SSA may enter into a contractual agreement or similar agreement with a third party to assist in accomplishing an Agency function relating to this system of records.

6. Non-tax return information which is not restricted from disclosure by Federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this proposed system of records. In such instances, the routine use will facilitate disclosure.

7. The Commissioner shall disclose to the Secretary of Health and Human Services (HHS), or to any State, any record or information requested in writing by the Secretary to be so disclosed for the purpose of administering any program administered by the Secretary, if records or information of such type were so disclosed under applicable rules, regulations and procedures in effect before the date of enactment of the Social Security Independence and Program Improvements Act of 1994.

We will disclose information under this routine use only when the records or information of such type were so disclosed under applicable rules, regulations and procedures that were in effect prior to SSA becoming independent of HHS.

8. To the Equal Employment Opportunity Commission (EEOC) when requested in connection with investigations into alleged or possible discriminatory practices in the Federal sector, examination of Federal affirmative employment programs, compliance by Federal agencies with the Uniform Guidelines on Employee Selection Procedures, or other functions vested in the Commission.

We will disclose information to the EEOC to assist in investigations into alleged or possible discriminatory practices in the Federal sector and for other functions vested in the Commission.

9. To the Federal Labor Relations Authority, the General Counsel, the Federal Mediation and Conciliation Service, the Federal Service Impasses Panel, or an arbitrator when information is requested in connection with investigations of allegations of unfair practices, matters before an arbitrator or the Federal Service Impasses Panel.

We will disclose information under this routine use, as necessary, to the Federal Labor Relations Authority, the General Counsel, the Federal Mediation and Conciliation Service, and the Federal Service Impasses Panel, or an arbitrator, when requested in connection with allegations of unfair labor practices, matters before an arbitrator or the Federal Service Impasses Panel.

10. To the Merit Systems Protection Board or the Office of Special Counsel in connection with appeals, special studies of the civil service and other merit systems, review of rules and regulations, investigation of alleged or possible prohibited personnel practices, and other such functions promulgated in 5 U.S.C. chapter 12, or as may be authorized by law.

We will disclose information under this routine use, as necessary, to the Merit Systems Protection Board or the Office of Special Counsel when requested in matters pending before the Merit Systems Protection Board or the Office of Special Counsel.

11. To Federal, State, and local law enforcement agencies and private security contractors, as appropriate, information necessary:

• To enable them to protect the safety of SSA employees and the public, the security of the SSA workplace, and the operation of SSA facilities, or

• To assist investigations or prosecutions with respect to activities that affect such safety and security or activities that disrupt the operation of SSA facilities.

We will disclose information under this routine use to law enforcement agencies and private security contractors when information is needed to respond to, investigate, or prevent, activities that jeopardize the security and safety of the public, employees or workplaces or that otherwise disrupt the operation of SSA facilities. Information would also be disclosed to assist in the prosecution of persons charged with violating a Federal, State or local law in connection with such activities.

12. To Federal, State, or local agencies (or agents on their behalf) for administering cash or non-cash income maintenance or health maintenance programs (including programs under the Act). Such disclosures include, but are not limited to, release of information to:

• Railroad Retirement Board (RRB) for administering provisions of the Railroad Retirement and Social Security Acts relating to railroad employment and for administering the Railroad Unemployment Insurance Act;

• The Veterans Administration (VA) for administering 38 U.S.C. 412, and upon request, information needed to determine eligibility for or amount of VA benefits or verifying other information with respect thereto;

• The Department of Labor for administering provisions of Title IV of the Federal Coal Mine Health and Safety Act, as amended by the Black Lung Benefits Act;

• State agencies for making determinations of Medicaid eligibility;

• State agencies for making determinations of food stamp eligibility under the food stamp program;

• To State audit agencies for auditing State supplementation payments and Medicaid eligibility considerations; and expenditures of Federal funds by the State in support of the Disability Determination Services;

• To State welfare departments pursuant to agreements with SSA for administration of State supplementation payments; for enrollment of welfare recipients for medical insurance under section 1843 of the Act; and for conducting independent quality assurance reviews of SSI recipient records, provided that the agreement for Federal administration of the supplementation provides for such an independent review; and

• To State vocational rehabilitation agencies or State crippled children's service agencies (or other agencies providing services to disabled children) for consideration of rehabilitation services per sections 222 and 1615 of the Act.

We will disclose information under this routine use only for the purpose of supporting other government agencies that administer programs which have the same compatible purposes as SSA programs: e.g., eligibility, benefit amounts, or other matters of benefit status in a social security program and is relevant to determining the same matters in the other program.

B. Compatibility of Proposed Routine Uses

The Privacy Act (5 U.S.C. 552a(b)(3)) and SSA's disclosure regulation (20 CFR part 401) permit us to disclose information under a published routine use for a purpose that is compatible with the purpose for which we collected the information. SSA's Regulations at 20 CFR 401.150(c) permit us to disclose information under a routine use, where necessary, to carry out SSA programs. SSA's Regulations at 20 CFR 401.120 provide that we will disclose information when a law specifically requires the disclosure. The proposed routine uses numbered 1 through 5 and 8 through 12, above, will ensure efficient administration of SSA programs administered through the NDMIS; the disclosure that would be made under routine uses number 6 and 7 are required by law. The proposed routine uses are appropriate and meet the relevant statutory and regulatory criteria.

III. Records Storage Medium and Safeguards for the Proposed New System Entitled the NDMIS

SSA will maintain information in the NDMIS in electronic form. Only authorized SSA and contractor personnel who have a need for the information in the performance of their official duties will be permitted access to the information. We will safeguard the security of the information by requiring the use of access codes to enter the computer system that will maintain the data and will store computerized records in secured areas that are accessible only to employees who require the information to perform their official duties. Any manually maintained records will be kept in locked cabinets or in otherwise secure areas. Furthermore, SSA employees having access to SSA databases maintaining personal information must sign a sanction document annually, acknowledging their accountability for making unauthorized access to or disclosure of such information.

Contractor personnel having access to data in the NDMIS will be required to adhere to SSA rules concerning safeguards, access and use of the data.

SSA and contractor personnel having access to the data on this system will be informed of the criminal penalties of the Privacy Act for unauthorized access to or disclosure of information maintained in this system. See 5 U.S.C. 552a(i)(1).

IV. Effect of the Proposed NDMIS on the Rights of Individuals

The proposed new system of records will maintain only that information that is necessary for the efficient and effective control and processing of the NDMIS in order to maintain, track and process SSA's litigation workload. Security measures will be employed that protect access to and preclude unauthorized disclosure of records in the proposed system of records. Therefore, we do not anticipate that the proposed system of records will have an unwarranted adverse effect on the rights of individuals.

Dated: June 2, 2005.
Jo Anne B. Barnhart,
Commissioner.

Notice of System of Records Require by the Privacy Act of 1974, as Amended

System Number:

60-0318.

System Name:

National Docketing Management Information System (NDMIS).

Security Classification:

None.

System Location:

The Office of the General Counsel, Executive Officer, Room 600, Altmeyer Building, 6401 Security Boulevard, Baltimore, Maryland 21235.

Categories of Individuals Covered by the System:

This system maintains information about (1) Individuals and/or their representatives who filed a claim for benefits under Social Security Act programs and who may pursue, or have pursued, litigation with SSA; (2) individuals and/or their representatives who have communicated or corresponded with SSA about a matter that may result in litigation with SSA; (3) current, former, and prospective SSA employees and/or their representatives who may pursue, or have pursued, litigation about employment issues with SSA; (4) individuals, including current, former and prospective employees against whom SSA may pursue, or has pursued, legal action; and (5) Government representatives who work on these matters.

Categories of Records in the System:

The NDMIS consists of identification information about a variety of administrative and civil litigation and identification information about communications and correspondence that may result, or has resulted, in litigation brought against, or by, SSA. SSA receives records of court dockets relating to legal matters from individuals and/or their representatives who may pursue, or have pursued, litigation with SSA. SSA receives documents submitted or filed by plaintiffs, grievants, complainants and appellants to prosecute civil or administrative litigation against SSA. NDMIS contains identification information about the litigation initiated against SSA by individuals who have filed a claim for benefits under SSA programs as well as civil rights complaints; and by current, former, and prospective employees such as complaints, grievances, unfair labor practice claims, appeals and waiver requests. SSA receives inquiries, communications and correspondence from individuals that may result in litigation brought against, or by, SSA. This system contains information about these matters, including the name of the individual/claimant/SSA employee, his/her Social Security number (SSN), date of the initial contact, type of inquiry, court civil action number, district court name, administrative case number, administrative case name, status of the case, disposition of the case, name of the claimant's representative and Employer Identification number, if applicable, and identification information about the Government's representatives.

Authority for Maintenance of the System:

Sections 205(a) (42 U.S.C. 405(a)), 206(a) (42 U.S.C. 406(a)) and (1631(d) (42 U.S.C. 1383(d)) of the Social Security Act, as amended; 44 U.S.C. 3103 et seq., as amended; 5 U.S.C. 7121, as amended; 5 CFR part 771; 5 CFR part 1201, as amended; 42 U.S.C. 2000e et seq., as amended; 29 CFR chapter XVI, as amended; 29 U.S.C. 633a and 701 et seq., as amended.

Purpose(s):

The Office of the General Counsel (OGC) in SSA is responsible for the Agency's litigation workloads. The NDMIS system enables OGC to control, track, maintain and process these workloads. The system retains the history of a case and tracks movement of the case through the various levels of administrative and civil litigation. Information about events at each level are maintained in this system to aid OGC's offices in SSA headquarters, and its 10 regional offices, in all phases of processing this workload through the resolution of each legal matter.

Routine Uses of Records Maintained in the System, Including Categories of Users and the Purposes of Such Uses:

1. To the Office of the President for the purpose of responding to an individual pursuant to an inquiry received from that individual or from a third party on his or her behalf.

2. To a congressional office in response to an inquiry from that office made at the request of the subject of a record.

3. To the Department of Justice (DOJ), a court or other tribunal, or another party before such tribunal when:

• SSA, or any component thereof; or

• Any SSA employee in his/her official capacity; or

• Any SSA employee in his/her individual capacity where DOJ (or SSA where it is authorized to do so) has agreed to represent the employee; or

• the United States or any agency thereof where SSA determines that the litigation is likely to affect the operations of SSA or any of its components,

is party to litigation or has an interest in such litigation, and SSA determines that the use of such records by DOJ, a court or other tribunal, or another party before such tribunal, is relevant and necessary to the litigation, provided, however, that in each case, SSA determines that such disclosure is compatible with the purpose for which the records were collected.

Disclosure may be made for routine uses as indicated below. However, disclosure of any information defined as “return” or “return information” under 26 U.S.C. 6103 of the Internal Revenue Code will not be made unless authorized by a statute, the Internal Revenue Service (IRS) or IRS regulations.

4. To student volunteers, individuals working under a personal services contract, and other individuals performing functions for SSA, but technically not having the status of Agency employees if they need access to the records in order to perform their assigned Agency functions.

5. To contractors and other Federal agencies, as necessary, for the purpose of assisting SSA in the efficient administration of its programs. We contemplate disclosing information under this routine use only in situations in which SSA may enter into a contractual or similar agreement with a third party to assist in accomplishing an Agency function relating to this system of records.

6. Non-tax return information which is not restricted from disclosure by Federal law may be disclosed to the General Services Administration (GSA) and the National Archives and Records Administration (NARA) under 44 U.S.C. 2904 and 2906, as amended by NARA Act of 1984, for the use of those Agencies in conducting records management studies.

7. The Commissioner shall disclose to the Secretary of Health and Human Services (HHS), or to any State, any record or information requested in writing by the Secretary to be so disclosed for the purpose of administering any program administered by the Secretary, if records or information of such type were so disclosed under applicable rules, regulations and procedures in effect before the date of enactment of the Social Security Independence and Program Improvements Act of 1994.

8. To the Equal Employment Opportunity Commission (EEOC) when requested in connection with investigations into alleged or possible discriminatory practices in the Federal sector, examination of Federal affirmative employment programs, compliance by Federal agencies with the Uniform Guidelines on Employee Selection Procedures, or other functions vested in the Commission.

9. To the Federal Labor Relations Authority, the General Counsel, the Federal Mediation and Conciliation Service, the Federal Service Impasses Panel, or an arbitrator when information is requested in connection with the investigations of allegations of unfair practices, matters before an arbitrator or the Federal Service Impasses Panel.

10. To the Merit Systems Protection Board or the Office of Special Counsel in connection with appeals, special studies of the civil service and other merit systems, review of rules and regulations, investigation of alleged or possible prohibited personnel practices, and other such functions promulgated in 5 U.S.C. chapter 12, or as may be authorized by law.

11. To Federal, State, and local law enforcement agencies and private security contractors, as appropriate, information necessary:

• To enable them to protect the safety of SSA employees and the public, the security of the SSA workplace, the operation of SSA facilities, or

• To assist investigations or prosecutions with respect to activities that affect such safety and security or activities that disrupt the operation of SSA facilities.

12. To Federal, State, or local agencies (or agents on their behalf) for administering cash or non-cash income maintenance or health maintenance programs (including programs under the Act). Such disclosures include, but are not limited to, release of information to:

• Railroad Retirement Board (RRB) for administering provisions of the Railroad Retirement and Social Security Acts relating to railroad employment and for administering the Railroad Unemployment Insurance Act;

• The Veterans Administration (VA) for administering 38 U.S.C. 412, and upon request, information needed to determine eligibility for or amount of VA benefits or verifying other information with respect thereto;

• The Department of Labor for administering provisions of Title IV of the Federal Coal Mine Health and Safety Act, as amended by the Black Lung Benefits Act;

• State agencies for making determinations of Medicaid eligibility;

• State agencies for making determinations of food stamp eligibility under the food stamp program;

• To State audit agencies for auditing State supplementation payments and Medicaid eligibility considerations; and expenditures of Federal funds by the State in support of the Disability Determination Services (DDS);

• To State welfare departments pursuant to agreements with SSA for administration of State supplementation payments; for enrollment of welfare recipients for medical insurance under section 1843 of the Act; and for conducting independent quality assurance reviews of SSI recipient records, provided that the agreement for Federal administration of the supplementation provides for such an independent review; and

• To State vocational rehabilitation agencies or State crippled children's service agencies (or other agencies providing services to disabled children) for consideration of rehabilitation services per sections 222 and 1615 of the Act.

Policies and Practices for Storing, Retrieving, Accessing, Retaining and Disposing of Records in the System:

Storage:

Records in this system are maintained electronically.

Retrievability:

Records are retrievable by claimant/employee name, his/her SSN, administrative tribunal number or court civil action number.

Safeguards:

Security measures include the use of access codes to enter the computer system which will maintain the data and the storage of computerized records in secured areas that are accessible only to employees who require the information in performing their official duties. SSA employees who have access to the data will be informed of the criminal penalties of the Privacy Act for unauthorized access to or disclosure of information maintained in the system. See 5 U.S.C. 552a(i)(1).

Contractor personnel having access to data in the system of records will be required to adhere to SSA rules concerning safeguards, access and use of the data.

Retention and Disposal:

Data will be maintained electronically on all active Agency litigation workloads from receipt through resolution. Information in this new system of records will be retained in accordance with OGC's internal policy directive that information will be retained until final disposition of the matter.

System Manager and Address:

Executive Officer, Office of the General Counsel, Social Security Administration, 6401 Security Blvd., Baltimore, Maryland 21235-6401.

Notification Procedure(s):

An individual can determine if this system contains a record about him/her by writing to the systems manager at the above address and providing his/her name, SSN or other information that may be in the system of records that will identify him/her. An individual requesting notification of records in person should provide the same information, as well as provide an identity document, preferably with a photograph, such as a driver's license. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If we determine that the identifying information that the individual provides by telephone is insufficient, we will require the individual to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.45).

Record Access Procedure(s):

Same as “Notification” procedure(s). Requesters also should specify reasonably the record contents they are seeking. These procedures are in accordance with SSA Regulations (20 CFR 401.40).

Contesting Record Procedure(s):

Same as “Notification” procedure(s). Requesters also should reasonably identify the record, specify the information they are contesting, and state the corrective action sought and the reasons for the correction with supporting justification showing how the record is untimely, incomplete, inaccurate or irrelevant. These procedures are in accordance with SSA Regulations (20 CFR 401.65).

Record Source Categories:

Information in this system is obtained from SSA claimants and/or their representatives; SSA employees (current, former and prospective) and/or their representatives; Government contractors; SSA personnel and records; documents relating to the claim, appeal, grievance or complaint; civil courts; the Equal Employment Opportunity Commission, the Merit Systems Protection Board and other similar organizations, and from information on incoming legal matters relating to litigation or possible litigation with the Agency.

Systems Exempted from Certain Provisions of the Privacy Act:

None.

[FR Doc. 05-11745 Filed 6-13-05; 8:45 am]

BILLING CODE 4191-02-P